DEPARTMENT OF AGRICULTURE

Natural Resources Conservation Service

Request for Nominations to the Agricultural Air Quality Task Force

AGENCY: Natural Resources Conservation Service, USDA.

ACTION: Notice of Request for Nominations to the Agricultural Air Quality Task Force.

SUMMARY: The Secretary of Agriculture invites nominations of qualified candidates to be considered for a 2-year term on the Agricultural Air Quality Task Force (AAQTF) established by the Federal Agriculture Improvement and Reform Act of 1996 to provide recommendations to the Secretary of Agriculture on agricultural air quality issues. This notice solicits nominations for membership on AAQTF.

DATES: Effective Date: This is effective June 29, 2015.

ADDRESSES: Nominations should be postmarked no later than August 13, 2015 to Greg Johnson, Designated Federal Official, Department of Agriculture, Natural Resources Conservation Service, 1201 Northeast Lloyd Boulevard, Suite 1000, Portland, Oregon 97232, or sent by email to greg.johnson@por.usda.gov.

FOR FURTHER INFORMATION CONTACT: Greg Johnson, Designated Federal Official, Department of Agriculture, Natural Resources Conservation Service, 1201 Northeast Lloyd Boulevard, Suite 1000, Portland, Oregon 97232; telephone: (503) 273-2424; fax: (503) 273-2401; email: greg.johnson@por.usda.gov.

SUPPLEMENTARY INFORMATION:

AAQTF Purpose

Section 391 of the Federal Agriculture Improvement and Reform Act of 1996, Public Law 104-127, 7 U.S.C. 5405, requires the Chief of the Natural Resource Conservation Service (NRCS) to establish a task force to address air agricultural quality issues. The task force advises the Secretary of Agriculture on the role of the Secretary for providing oversight and coordination related to agricultural air quality. The requirements of the Federal Advisory Committee Act, 5 U.S.C. App.2, apply to this task force.

The Task Force will:

1. Strengthen vital research efforts related to agricultural air quality;

2. Determine the extent to which agricultural activities contribute to air pollution;

3. Determine cost-effective ways in which the agricultural industry can improve air quality;

4. Coordinate and ensure intergovernmental cooperation on research activities related to agricultural air quality issues to avoid duplication, and ensure data quality and sound interpretation of data; and

5. Advise the Secretary of Agriculture on the role of the Secretary for providing oversight and coordination related to agricultural air quality.

AAQTF Membership

The task force expects to meet two to three times each year, with meetings held at various locations across the United States. A task force member will serve for a term of 2 years, starting with the date of charter establishment for this task force. The Chief of NRCS serves as Chair of the task force. The task force is composed of United States citizens representing a broad spectrum of individuals with interest in agricultural air quality issues. This includes, but is not limited to, representatives from the agricultural production and processing sector, as well as those from academia, agribusiness, regulatory organizations, environmental organizations, and local or State agencies.

Nominees to AAQTF will be evaluated on a number of criteria, including expertise in or experience with agricultural air quality research, agricultural production, and air quality environmental or regulatory issues.

Serving as a task force member will not constitute employment by, or the holding of, an office of the United States for the purpose of any Federal law. Persons selected for membership on the task force will not receive compensation from NRCS for their service as task force members, except that while away from home or regular place of business the member will be eligible for travel expenses paid by NRCS, including per diem in lieu of subsistence, at the same rate as a person employed intermittently in the government service, under section 5703 of Title 5, U.S.C. Additional information about AAQTF may be found on the World Wide Web at http://www.airquality.nrcs.usda.gov/wps/portal/nrcs/detail/national/air/taskforce/.

Member Nominations

Any interested person or organization may nominate qualified individuals for membership. Interested candidates may nominate themselves. Previous nominees and task force members who wish to be considered for membership on the task force must submit a new nomination with updated information, including a new background disclosure form (Form AD-755).

Nominations should be typed and include the following:

1. A brief summary, no more than two pages, explaining the nominee's qualifications to serve on AAQTF and addressing the criteria described above.

2. A resume providing the nominee's background, experience, and educational qualifications.

3. A completed background disclosure form (Form AD-755) signed by the nominee (http://www.usda.gov/documents/OCIO_AD_755_Master_2012.pdf).

4. Any recent publications by the nominee relative to air quality (if appropriate).

5. At least two letters of endorsement (optional).

Send written nominations to Greg Johnson, Designated Federal Official, Department of Agriculture, Natural Resources Conservation Service, 1201 Northeast Lloyd Boulevard, Suite 1000, Portland, Oregon 97232; or email: greg.johnson@por.usda.gov. The Designated Federal Official will acknowledge receipt of nominations.

Equal Opportunity Statement

To ensure that recommendations of the task force take into account the needs of underserved and diverse communities served by the U.S. Department of Agriculture (USDA), membership will include, to the extent practicable, individuals representing minorities, women, and persons with disabilities. USDA prohibits discrimination in all of its programs and activities on the basis of race, sex, color, national origin, gender, religion, age, sexual orientation, or disability. Additionally, discrimination on the basis of political beliefs and marital status or family status is also prohibited by statutes enforced by USDA (not all prohibited bases apply to all programs). Persons with disabilities who require alternate means for communication of program information (Braille, large print, audio tape, etc.) should contact USDA's Technology and Accessible Resources Give Employment Today Center at (202) 720-2600 (voice and TDD). USDA is an equal opportunity provider and employer.

Signed this 29th day of May 2015, in Washington, DC.
Jason A. Weller,
Chief, Natural Resources Conservation Service.

[FR Doc. 2015-15933 Filed 6-26-15; 8:45 am]

BILLING CODE 3410-16-P